LIBRARY OF CONGRESS

Copyright Office

37 CFR Part 201

[Docket No. RM 2002-4C]

Notice of Public Hearings: Exemption to Prohibition on Circumvention of Copyright Protection Systems for Access Control Technologies

AGENCY: Copyright Office, Library of Congress.

ACTION: Notice of Public Hearings in Los Angeles, CA.

SUMMARY: The Copyright Office of the Library of Congress will be holding two days of public hearings in Los Angeles, California on the possible exemptions to the prohibition against circumvention of technological measures that control access to copyrighted works and is extending the due date for requests to testify in California.

DATES: Public hearings will be held at the UCLA School of Law on May 14 and 15, 2003, beginning at 9 a.m. Requests to testify for these California hearings must be received by 5 p.m. E.S.T. on April 8, 2003. See SUPPLEMENTARY INFORMATION for additional information on other requirements.

ADDRESSES: The Los Angeles, California round of public hearings will be held on May 14 and 15, 2003 in the Moot Court Room, Room 1310, of the UCLA School of Law, 405 Hilgard Avenue, Los Angeles, CA. See SUPPLEMENTARY INFORMATION for additional address information and other requirements.

FOR FURTHER INFORMATION CONTACT: Rob Kasunic, Senior Attorney, Office of the General Counsel, Copyright GC/I&R, PO Box 70400, Southwest Station, Washington, DC 20024. Telephone (202) 707-8380; fax (202) 707-8366. Requests to testify must be sent by email to 1201@loc.gov. Email inquiries regarding the hearings may be sent to rkas@loc.gov.

SUPPLEMENTARY INFORMATION: On October 15, 2002, the Copyright Office published a Notice of Inquiry seeking comments in connection with a rulemaking pursuant to section 1201(a)(1) of the Copyright Act, 17 U.S.C. 1201(a)(1), which provides that the Librarian of Congress may exempt certain classes of works from the prohibition against circumventing a technological measure that controls access to a copyrighted work. For a more complete statement of the background and purpose of the rulemaking, please see the Notice of Inquiry and the full record of the previous rulemaking proceeding available on the Copyright Office's Web site at: http://www.copyright. gov/1201/.

On March 20, 2003, the Copyright Office announced that it would be holding public hearings relating to the rulemaking in Washington DC on April 11, April 15, April 30, and May 2, 2003, and that public hearings would subsequently be held in California in May, on dates and at a location to be announced later. 68 FR 13652 (March 20, 2003).

The Copyright Office is now announcing that the California hearings will be conducted on May 14 and 15, 2003 to hear testimony relating to the rulemaking. The hearings will be conducted in Room 1310 at the UCLA School of Law, located at 405 Hilgard Avenue, Los Angeles, California.

The March 20 notice invited interested parties to submit requests to testify at one of these hearings. Requests were to be submitted no later than April 1, 2003. Given the timing of this announcement on the precise dates and location of the California hearings, the Copyright Office is extending the due date for requests to testify at the Los Angeles, CA hearings only until 5 p.m., E.S.T., April 8, 2003.

Requirements for Persons Desiring To Testify

A request to testify must be submitted to the Copyright Office. All requests to testify must clearly identify:

• The name of the person desiring to testify,

• The organization or organizations represented, if any,

• Contact information (address, telephone, and email),

• The class of work to which your testimony is responsive (if you wish to testify on more than one proposed class of work, please state your order of preference),¹

• A brief summary of your proposed testimony,

• A description of any audiovisual material or demonstrative evidence, if any, that you intend to present,

• Preferences as to dates on which you wish to testify. Note: Because the agenda will be organized based on subject matter, we cannot guarantee that we can accommodate requests to testify on particular dates.

¹ The 51 written comments proposing classes of works to be exempted and the 338 reply comments have been posted on the Office's Web site; see­http://www.copyright.gov/1201/.

The Copyright Office notes that it has already received many requests to testify that have not complied with these requirements, particularly the requirement to identify the class of work to which the testimony is responsive. Requests to testify that do not conform to these requirements will not be considered, since the hearing sessions will be structured around particular or related proposed classes of works to be exempted. Persons who submit a timely request to testify will receive a response by email or telephone by April 14, 2003. The Copyright Office will notify all witnesses of the date and expected time of their appearance, and the time allocated for their testimony.

At the UCLA School of Law, only limited on-site parking will be available for participants and the public. Persons wishing to attend the hearings are encouraged to make alternative transportation plans or to park in commercial parking lots located near UCLA. The Office will post additional information on parking at UCLA on the Copyright Office's Web site at http://www.copyright.gov/1201/.

Addresses for Requests to Testify

All requests to testify must be sent by email to 1201@loc.gov and must be received by 5 E.S.T. on April 8, 2003. Persons who are unable to send requests by email should contact Rob Kasunic, Senior Attorney, at (202) 707-8380 to make alternative arrangements for submission of their requests to testify.

Form and Limits on Testimony at Public Hearings

There will be time limits on the testimony allowed for persons testifying that will be established after receiving all requests to testify. In the written comment period, the Office received nearly 400 written comments. Given the time constraints, only a fraction of that number could possibly testify at the hearings. A timely request to testify does not guarantee an opportunity to testify at these hearings. The Copyright Office encourages parties with similar interests to select common representatives to testify on behalf of a particular position.

The Copyright Office stresses that factual arguments are at least as important as legal arguments and encourages persons who wish to testify to provide demonstrative evidence to supplement their testimony. While testimony from attorneys who can articulate legal arguments in support of or opposition to a proposed exempted class of works is useful, testimony from witnesses who can explain and demonstrate the facts is also solicited. Any electronic or audiovisual equipment necessary for a presentation or demonstration at these California hearings should be brought by the person testifying.

The Office intends to organize individual sessions of the hearings around particular or related classes of works proposed for exemption. If a request to testify involves more than one proposed exemption or related exemption, please specify, in order of preference, the proposed exemptions on which you would prefer to testify.

Following receipt of the requests to testify, the Copyright Office will inform all parties requesting to testify whether they have been accepted. The Copyright Office will also prepare an agenda of the hearings which will be posted on the Copyright Office Web site at http://www.copyright.gov/1201/ and sent to persons who have been accepted to testify. To facilitate this process, it is essential that all of the required information listed above be included in a request to testify.

Dated: March 31, 2003.
David O. Carson,
General Counsel.

[FR Doc. 03-8147 Filed 4-1-03; 8:45 am]

BILLING CODE 1410-31-P